DEPARTMENT OF ENERGY

Energy Information Administration

Agency Information Collection Extension With Changes

AGENCY: U.S. Energy Information Administration (EIA), U.S. Department of Energy (DOE).

ACTION: Notice.

SUMMARY: EIA submitted an information collection request for extension with changes as required by the Paperwork Reduction Act of 1995. The information collection requests a three-year extension of its Commercial Buildings Energy Consumption Survey (CBECS), OMB Control Number 1905-0145. The first part of the collection gathers detailed information about buildings that are used for commercial purposes (such as building size, age, structural characteristics, operating hours, ownership, energy sources and uses, and the types of energy-related equipment used) from building owners, managers, and tenants. The second part of the collection assembles monthly energy consumption and expenditures from the energy suppliers of the sampled buildings.

DATES: Comments on this information collection must be received no later than January 14, 2019. If you anticipate any difficulties in submitting your comments by the deadline, contact the DOE Desk Officer at (202) 395-4718.

ADDRESSES: Written comments should be sent to: DOE Desk Officer: Brandon DeBruhl, Office of Information and Regulatory Affairs, Office of Management and Budget, New Executive Office Building, Room 10102, 735 17th Street NW, Washington, DC 20503. Brandon_F_DeBruhl@omb.eop.gov and to Joelle Michaels, CBECS Survey Manager, U.S. Department of Energy, EI-22, 1000 Independence Ave. SW, Washington, DC 20585 joelle.michaels@eia.gov.

FOR FURTHER INFORMATION CONTACT: Joelle Michaels (202) 586-8952, or email joelle.michaels@eia.gov. Form EIA-871 and its instructions can be viewed at https://www.eia.gov/survey/.

SUPPLEMENTARY INFORMATION:

This information collection request contains

(1) OMB No.: 1905-0145;

(2) Information Collection Request Title: Commercial Buildings Energy Consumption Survey (CBECS);

(3) Type of Request: Three-year extension with changes;

(4) Purpose: CBECS collects data on energy consumed in commercial buildings and the characteristics of the buildings. The surveys fulfill planning, analyses and decision-making needs of DOE, other federal agencies, state and local governments, and the private sector. Respondents are owners/managers of selected commercial buildings and their energy suppliers.

(4a) Changes to Information Collection: The proposed design, procedures, and forms for the 2018 CBECS reflect a number of changes from the 2012 CBECS. These changes include: First, the option for respondents to complete the CBECS using a self-administered online questionnaire; Second, Forms EIA-871B Authorization Form, EIA-871G Worksheet 1: Characteristics, Energy Sources, and Equipment, and EIA-871H Worksheet 2: Energy Amounts Used and Dollars Spent are no longer needed and are deleted; Third, most of the real-time automatic edits from the questionnaire are deleted to reduce interview time and burden; Fourth, building respondents will not be asked to report monthly energy data; and Fifth, numerous individual question changes, additions, and deletions are contained in Forms EIA-871A, C, D, E, F, I and J to keep the survey content relevant to data user needs.

(5) Annual Estimated Number of Respondents: 5,718;

(6) Annual Estimated Number of Total Responses: 5,718;

(7) Annual Estimated Number of Burden Hours: 2,618;

(8) Annual Estimated Reporting and Recordkeeping Cost Burden: The estimated annualized cost of the burden hours is $193,784 ((10,472 total burden hours * $74.02)/4 year collection cycle). EIA estimates that there are no additional costs to respondents associated with this survey other than the costs associated with the burden hours.

Statutory Authority: Section 13(b) of the Federal Energy Administration Act of 1974, Public Law 93-275, codified at 15 U.S.C. 772(b).

Signed in Washington, DC, on December 2, 2018.
Nanda Srinivasan,
Director, Office of Survey Development and Statistical Integration, U.S. Energy Information Administration.

[FR Doc. 2018-27124 Filed 12-13-18; 8:45 am]

BILLING CODE 6450-01-P